GENERAL SERVICES ADMINISTRATION

[GSA Bulletin FTR 11-08; Docket 2011—0002, Sequence 6]

Federal Travel Regulation (FTR); Relocation Allowances—Standard Mileage Rate for Moving Purposes

AGENCY: Office of Governmentwide Policy, General Services Administration (GSA).

ACTION: Notice of a bulletin.

SUMMARY: The Internal Revenue Service (IRS) Standard Mileage Rate for moving purposes is the rate at which agencies will reimburse an employee for using a privately owned vehicle for relocation on a worldwide basis. On June 23, 2011, the IRS announced that as of July 1, 2011, the relocation mileage rate would increase to $0.235 until December 31, 2011. FTR Bulletin 11-08 and all other FTR Bulletins may be found at http://www.gsa.gov/federaltravelregulation.

DATES: Effective Date: This notice is effective August 9, 2011.

Applicability Date: This notice applies to relocations performed on or after July 1, 2011, until December 31, 2011.

FOR FURTHER INFORMATION CONTACT: Mr. Ed Davis, Office of Governmentwide Policy (M), Office of Travel, Transportation and Asset Management (MT), General Services Administration at (202) 208-7638 or via e-mail at ed.davis@gsa.gov. Please cite FTR Bulletin 11-08.

Dated: July 21, 2011.
Craig J. Flynn,
Deputy Director, Office of Travel, Transportation and Asset Management, Office of Governmentwide Policy.

[FR Doc. 2011-20188 Filed 8-8-11; 8:45 am]

BILLING CODE 6860-14-P